DEPARTMENT OF JUSTICE

Notice of Lodging of Proposed Consent Decree Under the Toxic Substances Control Act

On August 17, 2017, the Department of Justice lodged a proposed consent decree with the United States District Court for the Southern District of New York in the lawsuit entitled United States v. Accolade Construction Group Inc., Civil Action No. 15 Civ. 5855 (JCF)

On July 27, 2015, the United States filed a complaint on behalf of the Environmental Protection Agency (“EPA”) alleging that Accolade Construction Group, Inc. (“Accolade”) violated the Renovation, Repair, and Painting Rule, 40 CFR part 745, subpart E (“RRP Rule”), promulgated under the Toxic Substances Control Act (“TSCA”), 15 U.S.C. 2601 et seq., during renovation work in 2013 and 2014 at six residential buildings in New York City. The complaint sought an injunction compelling compliance by Accolade in the future and an order requiring Accolade to disgorge the proceeds of conduct in violation of TSCA and the RRP Rule.

Pursuant to the proposed consent decree, both Accolade and its principal Faisal Ahmed (“Ahmed,” and, collectively, with Accolade, the “Settling Accolade Parties”) agree to injunctive relief that, among other things, requires them, for the term of the consent decree, to (1) provide EPA with notice and a proposed RRP Rule compliance plan prior to doing any renovation work covered by the RRP; (2) provide EPA with notice of each proposed renovation project prior to engaging in that project; (3) comply with the RRP Rule, and (4) maintain necessary records. The Settling Accolade Parties also agree to pay $58,000 in disgorgement, representing profits gained as a result of the conduct alleged in the complaint. The consent decree resolves any claims of the United States against Accolade or Ahmed for the violations of TSCA alleged in the Complaint through the date of lodging.

The publication of this notice opens a period for public comment on the consent decree. Comments should be addressed to the Assistant Attorney General, Environment and Natural Resources Division, and should refer to United States v. Accolade, D.J. Ref. No. 90-5-1-1-11139. All comments must be submitted no later than 30 days after the publication date of this notice. Comments may be submitted either by email or by mail:

To submit comments: | Send them to:
By email | pubcomment-ees.enrd@usdoj.gov
By mail | Assistant Attorney General, U.S. DOJ-ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ-ENRD, P.O. Box 7611, Washington, DC 20044-7611.

Please enclose a check or money order for $9.50 (25 cents per page reproduction cost) payable to the United States Treasury.

Susan M. Akers,
Assistant Section Chief, Environmental Enforcement Section, Environment and Natural Resources Division.

[FR Doc. 2017-17777 Filed 8-22-17; 8:45 am]

BILLING CODE 4410-15-P